FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011957.

Title: FOML/Zim Space Charter Agreement.

Parties: Fesco Ocean Management Limited (FOML) and Zim Integrated Shipping Services, Ltd. (Zim).

Filing Party: Neil M. Mayer, Esq.; Hoppel, Mayer and Coleman; 1050 Connecticut Avenue, NW.; 10th Floor; Washington, DC 20036.

Synopsis: The Agreement provides that Zim will charter slots to FOML in the trade to/from ports in the United States to Busan, South Korea on an “as-needed, as-available” basis.

Agreement No.: 011958.

Title: BBC Chartering and Logistic-Beluga Cooperative Working Agreement.

Parties: BBC Chartering and Logistic GmbH & Co. KG, and Beluga Chartering GmbH.

Filing Party: Matthew J. Thomas, Esq.; Troutman Sanders LLP; 401 9th Street, NW.; Suite 1000; Washington, DC 20004.

Synopsis: The agreement provides that the parties may coordinate their general commercial agency operations in the United States, including appointment of common agents to act with respect to such matters as general agency services, sales, marketing, booking and documentation, billing and collection, vessel chartering, coordination of sailings, routings and port calls, pricing, and terminal and port matters with respect to voyages to and from the U.S. and non-U.S. ports. The agreement does not establish any form of joint venture.

Dated: May 12, 2006.
By Order of the Federal Maritime Commission.
Bryant L. VanBrakle,
Secretary.

[FR Doc. E6-7501 Filed 5-16-06; 8:45 am]

BILLING CODE 6730-01-P